DEPARTMENT OF COMMERCE

National Oceanic and Atmospheric Administration

RIN 0648-XC891

Caribbean Fishery Management Council; Public Meeting

AGENCY: National Marine Fisheries Service (NMFS), National Oceanic and Atmospheric Administration (NOAA), Commerce.

ACTION: Notice of public meeting.

SUMMARY: The Caribbean Fishery Management Council's Advisory Panel and Ad Hoc Committee will meet.

DATES: The meeting will be held on October 22, 2013, from 10 a.m. to 4:30 p.m.

ADDRESSES: The meeting will be held at the Verdanza Hotel, 8020 Tartak St. Isla Verde, Puerto Rico 00909.

FOR FURTHER INFORMATION CONTACT: Caribbean Fishery Management Council, 270 Muñoz Rivera Avenue, Suite 401, San Juan, Puerto Rico 00918, telephone (787) 766-5926.

SUPPLEMENTARY INFORMATION: The AP and Ad Hoc will meet to discuss the items contained in the following agenda:

• Call to Order

• Adoption of Agenda

• Presentation of new model for socio-economic considerations in closed seasons to comply with ACL

• Discussion

• Recommendations to CFMC

• Other Business

The AP and Ad Hoc meeting will convene on October 22, 2013, from 10 a.m. until 4:30 p.m.

The meeting is open to the public, and will be conducted in English. However, simultaneous interpretation (English-Spanish) will be provided. Fishers and other interested persons are invited to attend and participate with oral or written statements regarding agenda issues.

Special Accommodations

This meeting is physically accessible to people with disabilities. For more information or request for sign language interpretation and/other auxiliary aids, please contact Mr. Miguel A. Rolón, Executive Director, Caribbean Fishery Management Council, 270 Muñoz Rivera Avenue, Suite 401, San Juan, Puerto Rico, 00918, telephone (787) 766-5926, at least 5 days prior to the meeting date.

Dated: September 25, 2013.
Tracey L. Thompson,
Acting Deputy Director, Office of Sustainable Fisheries, National Marine Fisheries Service.

[FR Doc. 2013-23763 Filed 9-27-13; 8:45 am]

BILLING CODE 3510-22-P